DEPARTMENT OF TRANSPORTATION

Federal Aviation Administration

[Docket No. 2023-1340]

Agency Information Collection Activities: Requests for Comments; Clearance of Renewed Approval of Information Collection: Pilots Convicted of Alcohol or Drug-Related Motor Vehicle Offenses or Subject to State Motor Vehicle Administrative Procedure

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on June 8, 2023. The collection involves receiving and maintaining correspondence required to be sent to the FAA from pilots who have been involved in a drug- or alcohol-related motor vehicle action. The information to be collected will be used to and/or is necessary because the FAA must identify airmen with multiple drug- or alcohol-related motor vehicle actions and verify traffic conviction information in order to support the FAA's Aviation Safety, Office of Aerospace Medicine, Aerospace Medical Certification Division, for their requirements to evaluate the qualifications of that airman to hold a medical certificate.

DATES: Written comments should be submitted by December 8, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Christopher Marks by email at: Christopher.Marks@faa.gov; phone: 405-954-2789.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0543.

Title: Pilots Convicted of Alcohol or Drug-Related Motor Vehicle Offenses or Subject to State Motor Vehicle Administrative Procedure.

Form Numbers: FAA Form 1600-85 has been created since the 60 day FRN has been published.

Type of Review: Renewal of an information collection.

Background: The Federal Register Notice with a 60-day comment period soliciting comments on the following collection of information was published on June 8, 2023 (88 FR 37596). After a study and audit conducted from the late 1970's through the 1980's by the Department of Transportation, Office of the Inspector General, (DOT/OIG), the DOT/OIG recommended the FAA find a way to track alcohol abusers and those dependent on the substance that may pose a threat to the National Airspace (NAS). Through a Congressional act issued in November of 1990, the FAA established a Driving Under the Influence (DUI) and Driving While Intoxicated (DWI) Investigations Branch. The final rule for this program is found in Title 14 Code of Federal Regulations (CFR)—Part 61 § 61.15.

This regulation calls for pilots certificated by the FAA to send information regarding Driving Under the Influence (or similar charges) of alcohol and/or drugs to the FAA within 60 days from either an administrative action against their driver's license and/or criminal conviction. Part of the regulation also calls for the FAA to seek certificate action should an airman be involved in multiple, separate drug/alcohol related motor vehicle incidents within a three-year period. Information sent by the airmen is used to confirm or refute any violations of these regulations, as well as by the Civil Aerospace Medical Institute (CAMI) for medical qualification purposes. Collection by CAMI is covered under a separate OMB control number 2120-0034.

An airman is required to provide a written report, with the following information: name, address, date of birth, airman certificate number, the type of violation which resulted in the conviction or administrative action, the state which holds the records or action, and a statement of whether the motor vehicle action resulted from the same incident or arose out of the same factual circumstances related to a previously reported motor vehicle action. A privacy act statement and a new FAA form number 1600-85 was created and added to the online submission portal.

Respondents: 480 FAA airmen with drug and alcohol related motor vehicle actions provide approximately 599 reports per year over the last three years.

Frequency: On occasion.

Estimated Average Burden per Response: 30 minutes.

Estimated Total Annual Burden: 30 minutes per report and 299.5 hours for all reports annually.

Issued in Oklahoma City, OK, on November 3, 2023.
Christopher Marks,
Security Specialist, Security & Hazardous Materials Safety/Enforcement Standards & Policy Division, AXE-900.

[FR Doc. 2023-24716 Filed 11-7-23; 8:45 am]

BILLING CODE 4910-13-P